DEPARTMENT OF ENERGY

Federal Energy Regulatory Commission

[Docket Nos. EC06-47-000, et al.]

Duke Energy Trading and Marketing, L.L.C. and DB Energy Trading LLC et al.; Electric Rate and Corporate Filings

December 29, 2005.

The following filings have been made with the Commission. The filings are listed in ascending order within each docket classification.

1. Duke Energy Trading and Marketing, L.L.C. and DB Energy Trading LLC

[Docket No. EC06-47-000]

Take notice that, on December 21, 2005, Duke Energy Trading and Marketing, L.L.C. (DETM) and DB Energy Trading LLC (DB Energy) Commission an application pursuant to section 203 of the Federal Power Act for authorization of the transfer by DETM of a wholesale power transaction to DB Energy. DETM and DB Energy have requested privileged treatment for commercially sensitive information contained in the application.

Comment Date: 5 p.m. eastern time on January 13, 2006.

2. Hunlock Creek Energy Ventures, UGI Development Company, UGI Hunlock Development Company, Allegheny Energy Supply Company, LLC, and Allegheny Energy Supply Hunlock Creek

[Docket No. EC06-50-000]

Take notice that on December 22, 2005, Hunlock Creek Energy Ventures, UGI Development Company, UGI Hunlock Development Company, Allegheny Energy Supply Company, LLC; and Allegheny Energy Supply Hunlock Creek (collectively, Applicants) submitted a Joint Application for Authorization Under section 203 of the Federal Power Act for Disposition of Jurisdictional Facilities.

Comment Date: 5 p.m. eastern time on January 13, 2006.

3. Duke Energy Trading and Marketing, L.L.C. and Sempra Energy Trading Corp.

[Docket No. EC06-51-000]

Take notice that on December 22, 2005, Duke Energy Trading and Marketing, L.L.C. (DETM) and Sempra Energy Trading Corp. (SET) submitted an application pursuant to section 203 of the Federal Power Act for authorization of a disposition of jurisdictional facilities in which DETM proposes to transfer to SET various wholesale electric power sales contracts. The Applicants have requested privileged treatment for commercially-sensitive information contained in the Application.

Comment Date: 5 p.m. eastern time on January 13, 2006.

4. Post Wind Farm LP

[Docket No. EG06-25-000]

Take notice that on December 22, 2005, Post Wind Farm LP, with its business address at 700 Universe Blvd., Juno Beach, Florida, 33408, filed with the Federal Energy Regulatory Commission an application for determination of exempt wholesale generator status pursuant to part 365 of the Commission's regulations.

Post Wind Farm LP states that the facility will consist of 56 General Electric wind turbines of 1.5MW each for a total nameplate capacity of 84MW.

Comment Date: 5 p.m. eastern time on January 12, 2006.

5. Tenaska III Texas Partners

[Docket No. EG06-26-000]

Take notice that on December 23, 2005, Tenaska III Texas Partners tendered for filing with the Commission an application for determination of exempt wholesale generator status pursuant to Part 365 of the Commission's regulations.

Comment Date: 5 p.m. eastern time on January 13, 2006.

6. City of Riverside, California

[Docket No. EL06-38-000]

Take notice that on December 22, 2005, the City of Riverside, California and the California Independent System Operator Corporation Electric Tariff, tendered for filing its third annual revision to its Transmission Revenue Balancing Account Adjustment.

Comment Date: 5 p.m. eastern time on January 12, 2006.

7. El Paso Electric Company

[Docket No. EL06-39-000]

Take notice that on December 23, 2005, El Paso Electric Company tendered for filing a Petition for Declaratory Order Disclaiming Jurisdiction over its sales of electric energy to the Holloman Air Force Base in Alamogordo, New Mexico.

Comment Date: 5 p.m. eastern time on January 24, 2006.

8. Alternate Power Source, Inc.

[Docket No. ER96-1145-017]

Take notice that on December 21, 2005, Alternate Power Source, Inc., tendered for filing amended Market Behavior Rules pursuant to Commission Order issued November 3, 2005.

Comment Date: 5 p.m. eastern time on January 11, 2006.

9. American Cooperative Services, Inc.

[Docket No. ER00-2823-002]

Take notice that on December 22, 2005, American Cooperative Services, Inc., submitted for filing with the Federal Energy Regulatory Commission certain revisions to its FERC Electric Rate Schedule No. 1.

Comment Date: 5 p.m. eastern time on January 6, 2006.

10. Continental Electric Cooperative Services, Inc.

[Docket No. ER02-1118-005]

Take notice that on December 22, 2005, Continental Electric Cooperative Services, Inc., submitted for filing with the Federal Energy Regulatory Commission certain revisions to its FERC Electric Rate Schedule No. 1, Original Volume No. 1.

Comment Date: 5 p.m. eastern time on January 6, 2006.

11. Devon Power, LLC; Middletown Power, LLC; and Montville Power, LLC

[Docket No. ER06-118-001]

Take notice that on December 23, 2005 Devon Power, Middletown Power, LLC and Montville Power, LLC (collectively, Applicants) submitted an errata to their December 21, 2005, Offer of Settlement pursuant to section 205 of the Federal Power Act. Applicants states the Settlement modifies certain terms of each proposed Reliability Agreements that were submitted on November 1, 2005.

Comment Date: 5 p.m. eastern time on January 6, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nora E. Donovan,
Acting Secretary.

[FR Doc. E5-8300 Filed 1-4-06; 8:45 am]

BILLING CODE 6717-01-P